POSTAL SERVICE BOARD OF GOVERNORS

Sunshine Act Meeting

Times and Dates: 8 a.m., Monday, March 4, 2002; 8:30 a.m., Tuesday, March 5, 2002.

Place: Washington, DC, at U.S. Postal Service Headquarters, 475 L'Enfant Plaza, SW., in the Benjamin Franklin Room.

Status: March 4-8 a.m. (Closed); March 5-8:30 a.m. (Open).

Matters to be Considered

Monday, March 4-8 a.m. (Closed)

1. Financial Performance.

2. Strategic Planning.

3. Preliminary Annual Performance Plan Targets FY 2003.

4. Personnel Matters and Compensation Issues.

Tuesday, March 5-8:30 a.m. (Open)

1. Minutes of the Previous Meeting, February 4-5, 2002.

2. Remarks of the Postmaster General and CEO.

Fiscal Year 2001 Comprehensive Statement on Postal Operations.

4. Consideration of Borrowing Resolution.

5. Capital Investment.

a. Burlingame, California, Peninsula Delivery Distribution Center.

6. Tentative Agenda for the April 8-9, 2002, meeting in Washington, DC.

CONTACT PERSON FOR MORE INFORMATION: William T. Johnstone, Secretary of the Board, U.S. Postal Service, 475 L'Enfant Plaza SW., Washington, DC 20260-1000. Telephone (202) 268-4800.

William T. Johnstone,
Secretary.

[FR Doc. 02-4537 Filed 2-21-02; 8:45 am]

BILLING CODE 7710-12-M